SOCIAL SECURITY ADMINISTRATION

[Social Security Ruling, SSR 06-02p]

Title II: Adjudicating Child Relationship Under Section 216(h)(2)(A) of the Social Security Act When Deoxyribonucleic Acid (DNA) Test Shows Sibling Relationship Between Claimant and a Child of the Worker Who Is Entitled Under Section 216(h)(3) of the Social Security Act on the Worker's Earnings Record

AGENCY: Social Security Administration (SSA).

ACTION: Notice of social security ruling.

SUMMARY: In accordance with 20 CFR 402.35(b)(1), the Commissioner of Social Security gives notice of Social Security Ruling, SSR 06-02p. To be entitled to child's insurance benefits on the earnings record of a worker under section 202(d) of the Social Security Act (The Act), a claimant must prove, among other things, that he or she is the worker's child. There are several ways a child can do this. As is pertinent to this Ruling, three of the ways are meeting either the State law definition of child under section 216(h)(2)(A) of the Act or one of the two federal law definitions of child under section 216(h)(3) of the Act. This Ruling provides that if the results of Deoxyribonucleic Acid (DNA) testing show a high probability that an entitled child is the sibling of a child claimant who is filing under the State law definition and we have already determined that the entitled child is the worker's natural child under one of the two federal law definitions in section 216(h)(3), we will rely on the 216(h)(3) determination when we determine whether the child claimant is the worker's child in accordance with section 216(h)(2)(A) of the Act. Under these circumstances, we will not determine whether the child who is entitled under one of the federal law definitions in section 216(h)(3) also meets the definition of child under State law.

DATES: Effective Date: June 13, 2006.

FOR FURTHER INFORMATION CONTACT: Mary Jayne Neubauer or Pete White, Social Security Specialists, Office of Income Security Programs, Social Security Administration, 6401 Security Boulevard, Baltimore, MD 21235-6401, (410) 966-7303 or (410) 594-2041 or TTY (800) 966-5609.

SUPPLEMENTARY INFORMATION: Although we are not required to do so pursuant to 5 U.S.C. 552(a)(1) and (a)(2), we are publishing this Social Security Ruling in accordance with 20 CFR 402.35(b)(1).

Social Security Rulings make available to the public precedential decisions relating to the Federal old-age, survivors, disability, supplemental security income, and special veterans benefits programs. Social Security Rulings may be based on case decisions made at all administrative levels of adjudication, federal court decisions, Commissioner's decisions, opinions of the Office of the General Counsel, and policy interpretations of the law and regulations.

Although Social Security Rulings do not have the same force and effect as the statute or regulations, they are binding on all components of the Social Security Administration, in accordance with 20 CFR 402.35(b)(1), and are binding as precedents in adjudicating cases.

If this Social Security Ruling is later superseded, modified, or rescinded, we will publish a notice in the Federal Register to that effect.

(Catalog of Federal Domestic Assistance, Program Nos. 96.001 Social Security—Disability Insurance; 96.002 Social Security—Retirement Insurance; 96.004 Social Security—Survivors Insurance.)

Dated: June 5, 2006.
Jo Anne B. Barnhart,
Commissioner of Social Security.

Policy Interpretation Ruling

Title II: Adjudicating Child Relationship Under Section 216(H)(2)(A) Of The Social Security Act When Deoxyribonucleic Acid (Dna) Test Shows Sibling Relationship Between Claimant And A Child Of The Worker Who Is Entitled Under Section 216(H)(3) Of The Social Security Act

Purpose: To explain our policy when:

• We have determined under section 216(h)(3) of the Act that a child (referred to here as “C1”) is the natural child of the worker;

• We must determine whether another child (referred to here as “C2”) is the worker's child under section 216(h)(2)(A) of the Act; and

• The results of sibling DNA testing show a high probability of a sibling relationship between C1 and C2.

Citations (Authority): Sections 202(d), 205(a), 216(e), 216(h)(2)(A), 216(h)(3) and 702(a)(5) of the Social Security Act; Regulations No. 4, subpart D, sections 404.350, 404.354 and 404.355.

Pertinent History: To be entitled to child's insurance benefits on the earnings record of a worker under section 202(d) of the Act, a claimant must prove, among other things, that he or she is the worker's child. A claimant may prove that he or she is the child of the worker in any of the following four ways:

1. The claimant could inherit the worker's property as the worker's child under the law of intestate succession of the appropriate State. See section 216(h)(2)(A) of the Act, 42 U.S.C. 416(h)(2)(A); 20 CFR 404.355(a)(1).

2. The claimant is the worker's natural child and the worker and the claimant's mother or father went through a ceremony that would have resulted in a valid marriage between them except for a “legal impediment.” See section 216(h)(2)(B) of the Act, 42 U.S.C. 416(h)(2)(B); 20 CFR 404.355(a)(2).

3. The claimant is the worker's natural child and, at the appropriate time, the worker acknowledged in writing that the claimant was the worker's child, was decreed by a court to be the claimant's parent, or was ordered by a court to contribute to the claimant's support because the claimant was the worker's child. See section 216(h)(3) of the Act, 42 U.S.C. 416(h)(3); 20 CFR 404.355(a)(3).

4. The claimant is shown by evidence satisfactory to us to be the worker's natural child, and the worker was living with the claimant or contributing to the claimant's support at the appropriate time. See section 216(h)(3) of the Act, 42 U.S.C. 416(h)(3); 20 CFR 404.355(a)(4).

For purposes of this policy interpretation ruling, paragraph 1 above is the State law definition of “child,” and paragraphs 2 through 4 are the Federal law definitions of “child.” ¹

¹ A claimant also may qualify as the worker's child by proving that he or she is the legally adopted child, stepchild or equitably adopted child of the worker, or that he or she is the grandchild or step-grandchild of the worker or the worker's spouse. See section 216(e) of the Act, 42 U.S.C. 416(e); 20 CFR 404.356-404.359. This ruling does not address these relationships.

This policy interpretation ruling applies when the results of sibling DNA testing show a high probability of a sibling relationship between a child claimant (C2) and a child (C1) whom we have determined to be the worker's child under one of the federal law definitions in section 216(h)(3) of the Act. This Ruling addresses two questions:

1. If C1 meets the requirements of section 216(h)(3), must C1 also meet the State law definition of child in order for us to use evidence of the sibling relationship between C1 and C2 in determining whether C2 is the worker's child under section 216 (h)(2)(A)?

2. For the purpose of determining whether C2 meets the state law definition of child under section 216(h)(2)(A), can we consider C1 to be the worker's natural child, based on the determination of eligibility under section 216(h)(3)?

These questions are not explicitly addressed by either the statute or our regulations. They have arisen because, in some cases, the evidence used to establish that C1 is the worker's child under section 216(h)(3) of the Act might not satisfy the standard required to show that C1 is the worker's child under state law. For example, under section 216(h)(3)(A)(ii) of the Act, the claimant must show “by evidence satisfactory to the Commissioner” that the worker is the claimant's parent and was “living with or contributing to the support of” the claimant at the appropriate time. The State law that we apply under section 216(h)(2)(A) of the Act often provides for a higher standard of proof (e.g., “clear and convincing evidence”) to prove that a person is the child of the worker for purposes of intestate succession.

Policy Interpretation: Under our current policy interpretation, when we must determine whether C2 qualifies as the worker's child under section 216(h)(2)(A) of the Act, we must apply the law of intestate succession that the courts of the appropriate State (the State of the worker's domicile at the appropriate time or the District of Columbia if the worker was not a domiciliary of a State at the appropriate time) would apply to decide whether C2 could inherit intestate property as the worker's child. Under this ruling, we will continue to apply the above policy interpretation. However, we will not review C1's relationship to the worker under State law in determining C2's relationship to the worker when:

• We have determined that C1 meets one of the federal definitions of child in section 216(h)(3) of the Act,

• There is no reason to question that determination, and

• The results of DNA testing show a high probability of a sibling relationship between C1 and C2.

We will rely on the determination under section 216(h)(3) establishing C1 as the natural child of the worker, for purposes of determining C2's relationship to the worker under the requirements and standards of proof provided in State law. We will consider C1 to be the known child of the worker as determined under section 216(h)(3). Then, under section 216(h)(2)(A) of the Act, we will apply the law of intestate succession of the appropriate State to determine whether the results of the DNA test between C1 and C2 (and any other evidence of C2's relationship to the worker) establish C2's status as the worker's child.

This policy is supported by the relevant statutes. Under section 205(a) of the Act we have:

full power and authority to make rules and regulations to establish procedures, not inconsistent with the provisions of this title, which are necessary or appropriate to carry out such provisions, and shall adopt reasonable and proper rules and regulations to regulate and provide for the nature and extent of the proofs and evidence and the method of taking and furnishing the same in order to establish the right to benefits hereunder.

(Emphasis added.) Under section 702(a)(5) of the Act, we “may prescribe such rules and regulations as * * * [we determine] necessary or appropriate to carry out the functions of the Administration.”

The policy interpretation in this Ruling is consistent with the relevant provisions of the Act and enhances the efficiency of the claims adjudication process.

Under the circumstances covered by this Ruling, our policy is consistent with section 216(h)(2)(A) of the Act because we will apply State law to determine whether C2 is the worker's child. We will determine whether the evidence relating to C2's relationship to the known child of the worker (C1), and any other evidence of C2's relationship to the worker, establishes that C2 is the worker's child under the standards of the applicable State law. Moreover, the policy avoids the redundancy and unnecessary administrative burden that would occur if we reviewed C1's relationship to the worker under State law when we have already determined that C1 is the worker's child under one of the federal definitions in section 216(h)(3) of the Act.

Effective Date: This SSR is effective upon publication in the Federal Register.

Cross-References: Program Operations Manual System sections GN00306.050, GN00306.055, GN00306.060, GN00306.065, GN00306.075, GN00306.085, GN00306.100, GN00306.105, GN00306.110, GN00306.120, GN00306.125, GN00306.130

[FR Doc. E6-9156 Filed 6-12-06; 8:45 am]

BILLING CODE 4191-02-P